DEPARTMENT OF DEFENSE

Department of the Navy

Notice of Intent To Prepare an Environmental Impact Statement for Basing the U.S. Marine Corps Joint Strike Fighter F-35B on the East Coast

AGENCY: Department of the Navy, DoD.

ACTION: Notice.

SUMMARY: Pursuant to Section (102)(2)(c) of the National Environmental Policy Act (NEPA) of 1969, as implemented by the Council on Environmental Quality Regulations (40 Code of Federal Regulations [CFR] Parts 1500-1508), the Department of the Navy NEPA regulations (32 CFR Part 775), and Marine Corps NEPA directives (Marine Corps Order P5090.2A, change 1), the Department of the Navy intends to prepare an Environmental Impact Statement (EIS) and conduct public scoping meetings for the proposed basing and operation of 13 Joint Strike Fighter (JSF) F-35B squadrons at Marine Corps Air Station (MCAS) Beaufort, in Beaufort, South Carolina and MCAS Cherry Point in Havelock, North Carolina.

DATES: Public scoping meetings, following an informal open house format, will be held from 4 p.m. to 7 p.m. on the dates indicated below, at the following locations:

(1) February 3, 2009, Holiday Inn Resort, Conference Room, 2225 Boundary St., Beaufort, SC.

(2) February 4, 2009, Senior Center, 15 Thornton Drive, NE., Ludowici, GA.

(3) February 5, 2009, McIntosh County Middle School, Cafeteria, 500 Green Street, Darien, GA.

(4) February 10, 2009, Havelock Tourist and Event Center, 201 Tourist Center Drive, Havelock, NC.

(5) February 11, 2009, Emerald Isle Community Center, 7500 Emerald Isle Dr., Emerald Isle, NC.

(6) February 12, 2009, Fred A. Anderson Elementary School, Cafeteria, 507 Anderson Dr., Bayboro, NC.

Federal, state, and local agencies, and interested parties and persons are encouraged to attend any of the open house scoping meetings. At these open houses, proposal-related displays and material will be available for public review; Marine Corps and Navy staff will be present to address questions; and the public will have an opportunity to submit written comments on environmental concerns that should be addressed in the EIS.

ADDRESSES: All are encouraged to provide comments on the proposed action and alternatives at any public scoping open houses and anytime during the 30-day scoping comment period, which ends February 16, 2009. There are three ways in which comments can be submitted: (1) By attending one of the public scoping open houses, (2) by e-mail using the project public Web site at http://www.usmcJSFeast.com or (3) by mail. All written comments on the scope of the EIS should be submitted and postmarked no later than February 16, 2009. Comments submitted by mail should be sent to: USMC F-35B East Coast Stationing EIS, P.O. Box 56488, Jacksonville, FL 32241-6488.

FOR FURTHER INFORMATION CONTACT: The F-35B EIS Project Manager at 757-444-1126. Please submit requests for special assistance, sign language interpretation for the hearing impaired, or other auxiliary aids needed at the public meeting to the F-35B EIS Project Manager by January 28, 2009.

SUPPLEMENTARY INFORMATION: The Marine Corps variant of the JSF, the F-35B, is a short take-off/vertical landing (STOVL), multi-role fighter aircraft whose primary emphasis is air-to-ground combat. The aircraft is designed to replace existing fleets of F-18 A/C/D Hornets (strike fighter), AV-8B Harriers (attack), and the EA-6B Prowler (electronic warfare) aircraft. The F-35B East Coast basing proposal would take approximately 11 years to implement and would begin in 2012. The proposal would base up to 216 aircraft (i.e., 10 active-duty and 1 reserve squadron of up to 16 aircraft each and 2 Pilot Training Center (PTC) squadrons at 20 aircraft each) at MCAS Beaufort and MCAS Cherry Point. Facility construction and modifications would occur prior to and continue throughout F-35B squadron arrivals; the F-35B would operate within existing airspace and at training ranges currently used by Marine Corps Hornet, Harrier, and Prowler aircraft.

Proposed Action

The proposed action would base and operate a total of 13 F-35B (the Marine Corps variant of the JSF) squadrons at both MCAS Beaufort and MCAS Cherry Point. This F-35B is a next generation, stealth, supersonic, multi-role fighter aircraft that will replace aging Marine Corps fleets of F-18 A/C/D Hornets, AV-8B Harriers, and EA-6B Prowlers in the 2nd and 4th Marine Air Wings. Specifically, the squadrons would include up to 10 F-35B active-duty squadrons of up to 16 aircraft per squadron, 1 reserve F-35B squadron comprising up to 16 aircraft, and 2 PTC F-35B squadrons composed of up to 20 aircraft per squadron.

Purpose and Need

To meet any crisis or conflict that may arise both now and into the future, Marine Corps Aviation must be manned, trained, and equipped to conduct world-wide air combat operations. For this reason, technological superiority in its air fleet is an essential requirement. The purpose of the proposed action, therefore, is to provide state-of-the art F-35B aircraft to Marine Corps fleets by replacing aging aircraft inventories. The basing action would provide both the facilities and functions to support and maintain these new aircraft as well as the airfields, airspace, and ranges to train air crews in these next-generation aircraft.

Preliminary Alternatives

The Marine Corps developed a range of reasonable basing alternatives in a three-tiered alternatives development process. The process applied the purpose and need to identify potential sites that could maximize JSF integration into existing Marine Air Ground Task Force organizations, maximize utilization of existing infrastructure, and provide efficient use of existing ranges. The alternative development process identified five preliminary basing alternatives. These alternatives distribute differing combinations of F-35B active-duty, reserve, and PTC squadrons at MCAS Beaufort and MCAS Cherry Point. The basing alternatives include:

• No-action alternative, where F-35B aircraft would not replace F-18A/C/D, AV-8B, and EA-6B squadrons at MCAS Beaufort and MCAS Cherry Point. The no-action alternative, while required by NEPA from which to measure potential impacts, would not meet the purpose and need of the proposed action and would prevent the Marine Corps from fulfilling its assigned combat missions.

• Alternative 1 would base three F-35B squadrons and the PTC (with two squadrons) at MCAS Beaufort; MCAS Cherry point would receive eight squadrons.

• Alternative 2 would base the PTC (with two squadrons) at MCAS Beaufort; MCAS Cherry Point would receive eleven squadrons.

• Alternative 3 would base eight squadrons at MCAS Beaufort; MCAS Cherry Point would receive three squadrons and the PTC (with two squadrons).

• Alternative 4 would base eleven squadrons at MCAS Beaufort; MCAS Cherry Point would receive the PTC (with two squadrons).

• Alternative 5 would base two F-35B squadrons and the PTC (with two squadrons) at MCAS Beaufort; MCAS Cherry point would receive nine squadrons.

Environmental Issues and Resources To Be Examined

The EIS will evaluate the potential environmental effects associated with each of the above alternatives. Issues to be addressed may include, but are not limited to, biological resources, historic and archaeological resources, geology and soils, hydrology, water quality, air quality, noise, safety, hazardous materials and waste, visual resources, socioeconomics, and environmental justice. Relevant and reasonable measures that could avoid or mitigate environmental effects will also be analyzed.

Additionally, the Marine Corps will undertake any consultations required by the Endangered Species Act, Clean Water Act, National Historic Preservation Act, and any other applicable law or regulation.

EIS Schedule

This Notice of Intent is the first phase of the EIS process and announces the 30-day public comment period to identify community concerns and local issues that should be addressed in the EIS. The next phase occurs when the Department of the Navy publishes a Notice of Availability (NOA) in the Federal Register and local media to publicly release the Draft EIS. A 45-day public comment period for the Draft EIS will commence upon publication of the NOA in the Federal Register . The Marine Corps will consider and respond to all comments received on the Draft EIS when preparing the Final EIS. The Department of the Navy intends to issue the Final EIS no later than October 2010, at which time an NOA will be published in the Federal Register and local media. A Record of Decision will be issued 30 days following publication of the Final EIS.

Dated: January 12, 2009.
A.M. Vallandingham,
Lieutenant Commander, Judge Advocate Generals Corps, U.S. Navy, Federal Register Liaison Officer.

[FR Doc. E9-834 Filed 1-14-09; 8:45 am]

BILLING CODE 3810-FF-P